DEPARTMENT OF THE TREASURY

Agency Information Collection Activities; Submission for OMB Review; Comment Request; Marks on Equipment and Structures and Marks and Labels on Containers of Beer

AGENCY: Departmental Offices, U.S. Department of the Treasury.

ACTION: Notice.

SUMMARY: The Department of the Treasury will submit the following information collection requests to the Office of Management and Budget (OMB) for review and clearance in accordance with the Paperwork Reduction Act of 1995, on or after the date of publication of this notice. The public is invited to submit comments on these requests.

DATES: Comments should be received on or before April 29, 2020 to be assured of consideration.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Copies of the submissions may be obtained from Spencer W. Clark by emailing PRA@treasury.gov, calling (202) 927-5331, or viewing the entire information collection request at www.reginfo.gov.

SUPPLEMENTARY INFORMATION:

Alcohol and Tobacco Tax and Trade Bureau (TTB)

Title: Marks on Equipment and Structures (TTB REC 5130/3), and Marks and Labels on Containers of Beer (TTB REC 5130/4).

OMB Control Number: 1513-0086.

Type of Review: Extension without change of a currently approved collection.

Description: Under the authority of chapter 51 of the Internal Revenue Code of 1986, as amended (IRC, 26 U.S.C. chapter 51), the Alcohol and Tobacco Tax and Trade Bureau (TTB) regulations in 27 CFR part 25, Beer, require brewers to place certain marks, signs, and measuring devices on their equipment and structures, and to place certain brands, labels, and marks on bulk and consumer containers of beer and other brewery products. The required information allows TTB to identify the use, capacity, and contents of brewery equipment and structures, as well as identify taxable brewery products and the responsible taxpayer. As such, the required information is necessary to protect the revenue and ensure effective administration of the IRC's provisions regarding brewery operations and products. The required information also allows other industry member and the general public to identify the contents of bulk and consumer containers of beer and other brewery products. However, for the purposes of inventory control, cost accounting, equipment utilization, and product identification, TTB believes the placement by brewers of the required information on their equipment and structures, and on their bulk and consumers containers of beer and other brewery products is a usual and customary practice under taken during the normal course of business, regardless of any TTB regulatory requirements to do so.

Form: None.

Affected Public: Businesses or other for-profits.

Estimated Number of Respondents: 10,000.

Frequency of Response: On occasion.

Estimated Total Number of Annual Responses: 10,000.

Estimated Time per Response: None. There is no annual burden associated with the usual and customary placement by brewers of marks and labels on brewery structures, equipment, and product containers during the normal course of business.

Estimated Total Annual Burden Hours: Zero.

Authority: 44 U.S.C. 3501 et seq.

Dated: March 24, 2020.
Spencer W. Clark,
Treasury PRA Clearance Officer.

[FR Doc. 2020-06479 Filed 3-27-20; 8:45 am]

BILLING CODE 4810-31-P